DEPARTMENT OF VETERANS AFFAIRS

Geriatrics and Gerontology Advisory Committee; Notice of Meeting

The Department of Veterans Affairs (VA) gives notice under Pub. L. 92-463 (Federal Advisory Committee Act) that a meeting of the Geriatrics and Gerontology Advisory Committee (GGAC) will be held on September 14-15, 2005. On September 14, 2005 the meeting will be held in Room 230, VA Central Office, 810 Vermont Avenue, NW., Washington, DC, from 8:30 a.m., until 5 p.m. On September 15, 2005, the meeting will be held at the American Legion Building, 1608 K Street, NW., Washington, DC, from 9 a.m., until 12 p.m. This meeting is open to the public.

The purpose of the Committee is to provide advice to the Secretary of Veterans Affairs and the Under Secretary for Health on all matters pertaining to geriatrics and gerontology by assessing the capability of VA health care facilities to meet the medical, psychological, and social needs of older veterans and by evaluating VA facilities designated as Geriatric Research, Education, and Clinical Centers (GRECCs).

The meeting will feature presentations on VA research initiatives in areas that affect aging, the White House Conference on Aging, and performance oversight of the VA Geriatric Research, Education, and Clinical Centers.

No time will be allocated at this meeting for receiving oral presentations from the public. Interested parties can provide written comments for review by the Committee in advance of the meeting to Mrs. Marcia Holt-Delaney, Office of Geriatrics and Extended Care (114), Department of Veterans Affairs, 810 Vermont Avenue, NW., Washington, DC 20420. Individuals who wish to attend the meeting should contact Mrs. Delaney, Program Analyst, at (202) 273-8540.

Dated: August 8, 2005.
By direction of the Secretary.
E. Philip Riggin,
Committee Management Officer.

[FR Doc. 05-16143 Filed 8-15-05; 8:45 am]

BILLING CODE 8320-01-M